DEPARTMENT OF HOMELAND SECURITY

Coast Guard

33 CFR Part 117

[Docket No. USCG-2020-0658]

Drawbridge Operation Regulation; Indian Creek, Miami Beach, FL

AGENCY: Coast Guard, DHS.

ACTION: Notification of temporary deviation from regulations; request for comments.

SUMMARY: The Coast Guard has issued a temporary deviation from the operating schedule that governs the 63rd Street Bridge across Indian Creek, mile 4.0, at Miami Beach, Florida. A request was made to place the drawbridge on a weekend operating schedule to alleviate vehicle congestion due to on demand bridge openings. This deviation will test a change to the drawbridge operation schedule to determine whether a permanent change to the schedule is needed. The Coast Guard is seeking comments from the public regarding these proposed changes.

DATES: This deviation is effective from 12:01 a.m. on December 14, 2020, through 11:59 p.m. on June 11, 2021.

Comments and relate material must reach the Coast Guard on or before February 11, 2021.

ADDRESSES: You may submit comments identified by docket number USCG-2020-0658 using Federal eRulemaking Portal at https://www.regulations.gov.

See the “Public Participation and Request for Comments” portion of the SUPPLEMENTARY INFORMATION section below for instructions on submitting comments.

FOR FURTHER INFORMATION CONTACT: If you have questions on this test deviation, call or email LT Samuel Rodriguez-Gonzalez, U.S. Coast Guard, Sector Miami Waterways Management Division; telephone 305-535-4307, email Samuel.Rodriguez-Gonzalez@uscg.mil.

SUPPLEMENTARY INFORMATION:

I. Background, Purpose and Legal Basis

The 63rd Street Bridge across Indian Creek, mile 4.0, at Miami Beach, Florida is a double-leaf bascule bridge with an 11 foot vertical clearance at mean high water in the closed position. The normal operating schedule for the bridge is set forth in 33 CFR 117.293. Navigation on the waterway is commercial and recreational.

A private citizen requested the Coast Guard consider placing the drawbridge on a weekend operating schedule to alleviate vehicle congestion due to on demand bridge openings. The Coast Guard contacted the bridge owner, Florida Department of Transportation (FDOT), and requested a copy of the bridge logs for the month of August 2020. After reviewing the logs, the Coast Guard determined placing the bridge on a schedule during the weekend may alleviate vehicle congestion while maintaining the reasonable needs of navigation. This test deviation provides for scheduled opening times on Saturdays and Sundays. There will be no change to the published weekday operating schedule.

Under this test deviation, from 7 a.m. to 7 p.m., the draw shall open on the hour and half-hour; except Federal Holidays and all other times, the draw shall operate on demand. From 7:10 a.m. to 9:55 a.m. and 4:05 p.m. to 6:59 p.m., Monday through Friday, except Federal Holidays, the draw need not open for the passage of vessels. In February of each year during the period seven days prior to the City of Miami Beach Yacht and Brokerage Show and the four days following the show, from 10 a.m. to 4 p.m., the bridge need not open except for 10 minutes at the top of the hour. At all other times the bridge shall operate on its normal schedule.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this notification as being available in this docket and all public comments, will be in our online docket at https://www.regulations.gov and can be viewed by following that website's instructions. Additionally, if you go to the online docket and sign up for email alerts, you will be notified when comments are posted or a final rule is published.

Dated: November 23, 2020.
Randall D. Overton,
Director, Bridge Administration, Seventh Coast Guard District.

[FR Doc. 2020-26415 Filed 12-2-20; 8:45 am]

BILLING CODE 9110-04-P